DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the ``Nature of Application'' portion of the table below as follows: 1—Motor vehicle, 2—Rail Freight, 3—Cargo Vessel, 4—Cargo aircraft only, 5—Passenger-carrying aircraft.

DATES: Comments must be received on or before January 16, 2007.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permits is published in accordance with Part 107 of the Federal hazardous materials transportation law (49 U.S.C. 5117(b); 49 CFR 1.53(b)).

Issued in Washington, DC, on December 12, 2006.
Delmer F. Billings,
Director, Office of Hazardous Materials, Special Permits & Approvals.

New Special Permit
Application No. | Docket No. | Applicant | Regulation(s) affected | Nature of special permit thereof
14436-N |  | BNSF Railway Company, Topeka, KS | 49 CFR 174.14(a) and (b) | To authorize the transportation in commerce of hazardous materials that are toxic by inhalation by rail without meeting the requirements of 49 CFR 174.14 for expedited shipments. (mode 2)
14437-N |  | The Columbiana Boiler Co., Columbiana, OH | 49 CFR 179.300 | To authorize the manufacture, marking, sale and use of non-DOT specification multi-unit tank car tanks similar to DOT 106A for transportation of hazardous materials. (mode 2)
14438-N |  | Matheson Tri-Gas, Parsippany, NJ | 49 CFR 173.301(h) and 173.40 | To authorize the transportation in commerce of certain DOT 3A and 3AA cylinders containing division 2.1, 2.2 and 2.3 hazardous materials that have developed a leak and been capped with a special sealing device. (modes 1, 2, 3)
14440-N |  | Aiolos Laboratories AB, Karlstad, Sweden | 49 CFR 173.306(a)(3)(v) | To authorize the transportation in commerce of Division 2.1 hazardous materials in certain non-refillable aerosol containers which are not subject to the hot water bath test. (modes 1, 2, 3, 4, 5)
14441-N |  | B.J. Alan Company, Youngstown, OH | 49 CFR 173.60 | To authorize the transportation in commerce of certain fireworks in non-DOT specification packagings when returned to the distributor. (mode 1)
14442-N |  | Trinityrail, Dallas, TX | 49 CFR 179.13 and 179.100-12(c) | To authorize the manufacture, marking, sale and use of non-DOT specification tank cars similar to a DOT 105J500W for use in liquefied gas services consisting of a welded protective housing and with a maximum gross weight on rail of 286,000 pounds. (mode 2)
14443-N |  | Ball Aerospace & Technologies Corp., Boulder, CO | 49 CFR 173.301(a)(1) and (a)(3) | To authorize the transportation in commerce of helium by motor vehicle in a non-DOT specification packaging. (mode 1)
14445-N |  | Crown Packaging Technology Alsip, IL | 49 CFR 173.304(e) and 173.306(a) | To authorize the manufacture, marking, sale and use of a non-DOT specification inside metal container conforming in part with DOT-specification 2Q for use in transporting R-134a (1, 1, 2 tetrafluoroethane). (modes 1, 2, 3, 4)
14447-N |  | California Tank Lines, Inc., Stockton, CA | 49 CFR 177.834 | To authorize cargo tanks to remain connected while standing without the physical presence of an unloader when using a specially designed hose. (mode 1)
14448-N |  | UltraCell Corporation, Livermore, CA | 49 CFR 175.10(a) | To authorize passengers on aircraft to carry on fuel cells and spare cartridges as unregulated. (mode 5)
14449-N |  | Applied Companies, Valencia, CA | 49 CFR 178.5 | To authorize the manufacture, marking, sale and use of non-DOT specification cylinder similar to a DOT 4D for the transportation of nitrogen and carbon dioxide. (modes 1, 4)

[FR Doc. 06-9725 Filed 12-14-06; 8:45 am]

BILLING CODE 4909-60-M